NATIONAL ARCHIVES AND RECORDS ADMINISTRATION

36 CFR Part 1280

RIN 3095-AB77

Use of Meeting Rooms and Public Spaces

AGENCY: National Archives and Records Administration (NARA).

ACTION: Proposed rule.

SUMMARY: NARA proposes to amend its regulations on the public use of NARA facilities in the Washington, DC area. The regulations are being revised to clarify instances where fees may be charged for services related to building use. It also updates contact information for requesting use of NARA public areas in the Washington, DC National Archives Building and the National Archives at College Park.

DATES: Submit comments on or before June 4, 2013.

ADDRESSES: NARA invites interested persons to submit comments on this proposed rule. Please include “Attn: 3095-AB77” and your name and mailing address in your comments. Comments may be submitted by any of the following methods:

• Federal eRulemaking Portal: Go to http://www.regulations.gov. Follow the online instructions for submitting comments.

• Fax: Submit comments by facsimile transmission to 301-837-0319.

• Mail: Send comments to Regulations Comments Desk (SP), Room 4100, Strategy Division, National Archives and Records Administration, 8601 Adelphi Road, College Park, MD 20740-6001.

• Hand Delivery or Courier: Deliver comments to 8601 Adelphi Road, College Park, MD.

FOR FURTHER INFORMATION CONTACT: Marilyn Redman at 301-837-3174.

SUPPLEMENTARY INFORMATION: NARA proposes to amend its regulations on the public use of NARA facilities in the Washington, DC area. The regulations are being revised to clarify instances where fees may be charged for services related to building use. It also updates contact information for requesting use of NARA public areas in the Washington, DC National Archives Building and the National Archives at College Park.

This proposed rule is not a significant regulatory action for the purposes of Executive Order 12866 and has been reviewed by the Office of Management and Budget (OMB). As required by the Regulatory Flexibility Act, it is hereby certified that this proposed rule will not have a significant impact on a substantial number of small entities. This proposed rule does not have any federalism implications.

List of Subjects in 36 CFR Part 1280

Archives and records.

For the reasons set forth in the preamble, NARA proposes to amend part 1280 of title 36, Code of Federal Regulations, as follows:

PART 1280—USE OF NARA FACILITIES

1. The authority citation for part 1280 continues to read as follows:

Authority: 44 U.S.C. 2102 notes, 2104(a), 2112, 2903.

2. Amend § 1280.78 by revising paragraph (c) to read as follows:

§ 1280.78 Does NARA charge fees for the use of public areas in the National Archives Building?

* * * * *

(c) Federal and quasi-Federal agencies, State, local, and tribal governmental institutions using public space for official government functions pay fees to the National Archives Trust Fund only for the costs for room rental, administrative fees, additional cleaning, security, and other staff services NARA provides.

3. Amend § 1280.80 by revising paragraph (a) to read as follows:

§ 1280.80 How do I request to use NARA public areas in the National Archives Building?

(a) Direct your request to use space to Special Events (Partnerships Division), National Archives and Records Administration, 700 Pennsylvania Avenue NW, Washington DC 20408; or request by email to specialevents@nara.gov.

* * * * *

4. Revise § 1280.87 to read as follows:

§ 1280.87 Does NARA charge fees for the use of public areas in the National Archives at College Park?

NARA may charge a fee under 44 U.S.C. 2903(b) for the use of public areas in the National Archives at College Park. We inform organizations in advance and in writing of the total estimated cost of using the public areas. Federal and quasi-Federal agencies, State, local, and tribal governmental institutions using public space for official government functions pay fees to the National Archives Trust Fund only for the costs for room rental, administrative fees, additional cleaning, security, and other staff services NARA provides.

5. Amend § 1280.88 by revising paragraph (a) to read as follows:

§ 1280.88 How do I request to use NARA public areas in the National Archives at College Park?

(a) Direct your request to use space to Special Events (Partnerships Division), National Archives and Records Administration, 700 Pennsylvania Avenue NW, Washington DC 20408; or request by email to specialevents@nara.gov.

* * * * *

Dated: March 28, 2013.
David S. Ferriero,
Archivist of the United States.

[FR Doc. 2013-08020 Filed 4-4-13; 8:45 am]

BILLING CODE 7515-01-P